DEPARTMENT OF THE INTERIOR

National Park Service

[NPS-WASO-PCE-COR-NTS-NPS0028331; PPWOPCADT0, PPMPSPD1T.Y00000 (200); OMB Control Number 1024-0283]

Agency Information Collection Activities; Submission to the Office of Management and Budget for Review and Approval; Application for Designation as National Recreation Trail or National Water Trail

AGENCY: National Park Service, Interior.

ACTION: Notice of Information Collection; request for comment.

SUMMARY: In accordance with the Paperwork Reduction Act of 1995, we, the National Park Service (NPS) are proposing to renew an information collection.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0283 in the subject line of your comments.

FOR FURTHER INFORMATION CONTACT: To request additional information about this ICR, contact Peter Bonsall, National Trails System Program Specialist, National Recreation Trails Coordinator for the Department of the Interior 12795 W. Alameda Parkway, Lakewood, CO 80228; or by email at peter_bonsall@nps.gov; or by telephone at 303-969-2620. Please reference OMB Control Number 1024-0283 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On October 11, 2019, we published a Federal Register notice soliciting comments on this collection of information for 60 days, ending on December 10, 2019 (84 FR 54921). No public comments were received in response to this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS administers the NRT program as authorized by section 4 of the National Trails System Act (16 U.S.C. 1243) and Secretarial Order No. 3319, which establishes National Water Trails as a class of National Recreation Trails and directs that such trails collectively be considered in a National Water Trails System.

The NPS uses forms 10-1002: Application for Designation as National Water Trail and 10-1003: Application for Designation as National Recreation Trail, to evaluate the applications for adherence to NRT requirements and criteria. NPS Approval of an application is based on (1) the sufficiency of information provided on the application form and in supporting documentation, such as photographs, maps, and written landowner consents that accompany the form, and (2) successfully meeting the NRT requirements and criteria. Successful applications are forwarded to the Secretary of the Interior for approval.

Title of Collection: Application for Designation as National Recreation Trail or National Water Trail.

OMB Control Number: 1024-0283.

Form Number: NPS 10-1002: Application for Designation as National Water Trail and NPS 10-1003: Application for Designation as National Recreation Trail.

Type of Review: Extension of a currently approved collection.

Description of Respondents: Private individuals; businesses; educational institutions; nonprofit organizations; state, tribal, and local governments; and Federal agency land units.

Respondent's Obligation: Required to obtain or retain a benefit.

Frequency of Collection: On occasion.

Total Estimated Annual Nonhour Burden Cost: None.

| Annual respondents | Total annual responses | Average time per response (hours) | Total annual burden hours *
Application for Designation—National Recreation Trails:
Individual | 1 | 1 | 8 | 8
Private Sector | 5 | 5 | 8 | 40
State, Local, or Tribal Governments | 6 | 7 | 8 | 56
Application for Designation—National Water Trails System:
Individual | 1 | 1 | 11 | 11
Private Sector | 2 | 2 | 11 | 22
State, Local, or Tribal Governments | 3 | 3 | 11 | 33
Amendments/Updates—National Recreation Trails:
Individual | 1 | 1 | 0.5 | 1
Private Sector | 1 | 1 | 0.5 | 1
State, Local, or Tribal Governments | 3 | 3 | 0.5 | 2
Amendments/Updates—National Water Trails System:
Individual | 1 | 1 | 0.5 | 1
Private Sector | 1 | 1 | 0.5 | 1
State, Local, or Tribal Governments | 1 | 1 | 0.5 | 1
Total | 22 | 28 |  | 185

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2020-01803 Filed 1-30-20; 8:45 am]

BILLING CODE 4312-52-P